DEPARTMENT OF COMMERCE

National Oceanic and Atmospheric Administration

50 CFR Part 648

[Docket No. 000119014-0137-02; I.D. 080700C]

Fisheries of the Northeastern United States; Summer Flounder, Scup, and Black Sea Bass Fisheries; Adjustments to the 2000 Summer Flounder, Scup and Black Sea Bass Commercial Quotas

AGENCY: National Marine Fisheries Service (NMFS), National Oceanic and Atmospheric Administration (NOAA), Commerce.

ACTION: Commercial quota adjustment for 2000; correction.

SUMMARY: NMFS publishes additional adjustments to the 2000 commercial summer flounder and black sea bass quotas. This action complies with the regulations that implement the Fishery Management Plan for the Summer Flounder, Scup, and Black Sea Bass Fisheries (FMP), which specifies that summer flounder landings in excess of a given state’s individual commercial quota be deducted from that state’s quota for the following year. Similarly, for black sea bass, the FMP specifies that landings in excess of a quota for a given quarter be deducted from the quota for the same quarter in the following year. The intent of this action is to account for additional 1999 summer flounder landings reported in Massachusetts, New Jersey, and Maryland, and to correct Delaware landings downward and the black sea bass landings data for 1999 Quarters 2, 3, and 4.

DATES: Effective December 29, 2000, through December 31, 2000.

FOR FURTHER INFORMATION CONTACT: Paul H. Jones, Fisheries Policy Analyst, (978) 281-9273, fax 978-281-9135, e-mail paul.h.jones@noaa.gov.

SUPPLEMENTARY INFORMATION:

Background

At 65 FR 33486, May 24, 2000, NMFS published final specifications for the 2000 summer flounder, scup, and black sea bass fisheries, which included preliminary 1999 landings and quota adjustments. At 65 FR 50463, August 18, 2000, and corrected at 65 FR 69886, November 21, 2000, NMFS announced adjustments to the 2000 summer flounder, scup, and black sea bass commercial quotas based on updated 1999 landings data. Additional adjustments are necessary through this notification due to the receipt of late 1999 summer flounder landings data from the Commonwealth of Massachusetts, and the States of New York, New Jersey, Maryland, and Delaware. In addition, some black sea bass landings reported by the State of Delaware in 1999 were double-counted, and landings from non-limited access black sea bass vessels that landed south of Cape Hatteras Light, North Carolina, were incorrectly counted, meaning that the final 1999 landings were lower than announced in the August 18, 2000, Federal Register.

Summer Flounder

The 1999 quota, preliminary 1999 landings, and the resulting 1999 overages for all states for summer flounder are given in Table 1. The following states recorded landings of summer flounder different from those reported in the August 18, 2000, and November 21, 2000, Federal Register: MA, +7,357 lb (3,337 kg); NY, +145 lb (66 kg); NJ, +241 lb (109 kg); DE, -376 lb (171 kg); and MD, +16 lb (7 kg).

The resulting adjusted 2000 commercial quota for each state is given in Table 2, taking into account both the 1999 quota overages published in the August 18, 2000, and November 21, 2000, Federal Register and the additional landings previously noted.

Black Sea Bass

The 1999 quotas (by quarter), preliminary 1999 landings (by quarter) and resulting overages for black sea bass for all quarters are given in Table 5. Changes in landings from those reported in the August 18, 2000, Federal Register are as follows: Quarter 1, -3,792 lb (1,720 kg); Quarter 2, -26,088 lb (11,834 kg); Quarter 3, -18,104 lb (8,212 kg); and Quarter 4, -39,377 lb (17,861 kg).

Corrections

In the document published at 65 FR 50643, August 18, 2000 [FR Doc. 00-21100] the following corrections are made.

On page 50464, Tables 1 and 2 are replaced in their entirety as follows.

Table 1. Summer Flounder Preliminary 1999 Landings and Overages by State
State | 1999 Quota: Lb | 1999 Quota: Kg¹ | Preliminary 1999 Landings: Lb | Preliminary 1999 Landings: Kg¹ | 1999 Overage: Lb | 1999 Overage: Kg¹
ME | 4,450 | 2,018 | 5,778 | 2,621 | 1,328 | 602
NH | 51 | 23 | 0 | 0 | 0 | 0
MA | 757,842 | 343,751 | 812,540 | 368,568 | 54,698 | 24,811
RI | 1,742,583 | 790,422 | 1,636,528 | 742,317 | 0 | 0
CT | 238,516 | 108,189 | 245,219 | 111,229 | 6,703 | 3,040
NY | 860,006 | 390,099 | 804,048 | 364,716 | 0 | 0
NJ | 1,853,926 | 840,927 | 1,917,973 | 869,993 | 64, 047 | 29,052
DE | (25,739)² | (11,675)² | 7,541 | 3,421 | (33,280)² | (15,096)²
MD | 202,354 | 91,786 | 201,013 | 91,180 | 0 | 0
VA | 2,120,696 | 961,932 | 2,195,832 | 996,012 | 75,136 | 34,081
NC | 2,974,589 | 1,349,274 | 2,800,749 | 1,270,398 | 0 | 0
Total³ | 10,755,013 | 4,866,746 | 10,627,221 | 4,820,455 |  |
¹Kilograms are as converted from pounds, and the column may not total correctly due to rounding.²Parentheses indicate a negative number. ³Total quota is the sum of all states having allocation. A state with a negative number has an allocation of zero. Total quota and total landings do not equal overage because they reflect positive quota balances in several states.

Table 2. Summer Flounder Preliminary Adjusted 2000 Quotas by State
State | 2000 Initial Quota: Lb | 2000 Initial Quota: Kg¹ | 2000 Adjusted Quota: Lb | 2000 Adjusted Quota: Kg¹
ME | 5,284 | 2,397 | 3,956 | 1,794
NH | 51 | 23 | 51 | 23
MA | 757,834 | 343,748 | 703,136 | 318,943
RI | 1,742,566 | 790,041 | 1,742,566 | 790,415
CT | 250,788 | 113,756 | 244,085 | 110,715
NY | 849,672 | 385,405 | 849,672 | 385,404
NJ | 1,858,346 | 842,931 | 1,794,299 | 813,894
DE | 1,977 | 897 | (31,303)² | (14,199)²
MD | 226,568 | 102,770 | 226,568 | 102,771
VA | 2,368,546 | 1,074,354 | 2,293,410 | 1,040,273
NC | 3,049,560 | 1,383,257 | 3,049,560 | 1,383,257
Total³ | 11,109, 214 | 5,039,055 | 10,876,000 | 4,947,489
¹Kilograms are as converted from pounds, and the column may not total correctly due to rounding.² Parentheses indicate a negative number. ³Total quota is the sum of all states having allocation. A state with a negative number has an allocation of zero.

On page 50465, Tables 5 and 6 are replaced in their entirety as follows.

Table 5. Black Sea Bass Preliminary 1999 Landings and Overages by Quarter
Quarter | 1999 Quota ¹: Lb | 1999 Quota ¹: Kg ² | Preliminary 1999 Landings: Lb | Preliminary 1999 Landings: Kg ² | 1999 Overage: Lb | 1999 Overage: Kg ²
1. (Jan -Mar) | 1,168,860 | 530,186 | 712,196 | 323,052 |  |
2. (Apr -Jun) | 885,115 | 401,481 | 1,036,067 | 469,960 | 150,952 | 68,472
3. (Jul -Sep) | 372, 983 | 169,182 | 507,139 | 230,038 | 134,156 | 60,853
4. (Oct -Dec) | 598,043 | 271,268 | 705,996 | 320,240 | 107,953 | 48,968
Total | 3,025,000 | 1,372,117 | 2,961,398 | 1,343,290 |  |
¹ Reflects quotas as published on August 26, 1999 (64 FR 46596). ² Kilograms are as converted from pounds, and the column may not total correctly due to rounding.

Table 6. Black Sea Bass Preliminary Adjusted 2000 Quotas by Quarter
Quarter | 2000 Initial Quota: Lb | 2000 Initial Quota: Kg ¹ | 2000 Adjusted Quota: Lb | 2000 Adjusted Quota: Kg ¹
1. (Jan -Mar) | 1,168,760 | 530,141 | 1,168,760 | 530,141
2. (Apr -Jun) | 885,040 | 401,447 | 734,088 | 332,982
3. (Jul -Sep) | 372, 951 | 169,168 | 238,795 | 108,317
4. (Oct -Dec) | 597,991 | 271,244 | 490,038 | 222,281
Total | 3,024,742 | 1,372,000 | 2,631,681 | 1,193,721
¹Kilograms are as converted from pounds, and the column may not total correctly due to rounding.

Classification

This action is required by 50 CFR part 648 and is exempt from review under Executive Order 12866.

Authority: 16 U.S.C. 1801 et seq.

Dated: December 21, 2000.
Clarence Pautzke,
Director, Office of Sustainable Fisheries, National Marine Fisheries Service.

[FR Doc. 00-33221 Filed 12-28-00; 8:45 am]

BILLING CODE: 3510-22-S